DEPARTMENT OF HEALTH AND HUMAN SERVICES

Health Resources and Services Administration

Agency Information Collection Activities: Submission to OMB for Review and Approval; Public Comment Request; Maternal, Infant, and Early Childhood Home Visiting Program Cost Reporting Pilot Study

AGENCY: Health Resources and Services Administration (HRSA), Department of Health and Human Services.

ACTION: Notice.

SUMMARY: In compliance with section 3507(a)(1)(D) of the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than October 11, 2016.

ADDRESSES: Submit your comments, including the ICR Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Maternal, Infant, and Early Childhood Home Visiting Program Cost Reporting Pilot Study

OMB No. 0906-xxxx—NEW

Abstract: The Maternal, Infant, and Early Childhood Home Visiting Program (Federal Home Visiting Program), administered by HRSA in partnership with the Administration for Children and Families, supports voluntary, evidence-based home visiting services during pregnancy and to parents with young children up to kindergarten entry. States, Tribal entities, and certain nonprofit organizations are eligible to receive funding from the Federal Home Visiting Program and have the flexibility to tailor the program to serve the specific needs of their communities. Funding recipients may subaward grant funds to organizations, otherwise known as Local Implementing Agencies (LIAs), in order to provide services to eligible families in at-risk communities.

Need and Proposed Use of the Information: This information collection is requested to conduct a pilot study to test the reliability of a standardized cost reporting tool for the provision of evidence-based home visiting services. The information collected will be used to: Test the reliability and feasibility of implementing a proposed set of standardized cost metrics and organizational characteristics across various contexts; estimate preliminary total costs for implementing evidence-based home visiting services, including ranges, and; further refine cost metrics and the cost reporting tool based on feedback received through the pilot study. Proposed standard cost metrics have been developed based on a review of the existing literature for measures of home visiting costs, as well as from ongoing discussions with developers of evidence-based home visiting models.

HRSA received comments from one respondent during the public comment period which estimated the hourly burden per response to be 16 hours. The estimated burden has been revised to reflect this feedback. Further, the commenter expressed an interest in using the tool to analyze the cost-benefit and overall value of home visiting programs. While the cost reporting tool may be useful in collecting information that will lead to additional cost-benefit analyses, those analyses are outside the scope of the current project. A full response to the comments can be accessed in Part A of the Supporting Statement.

Likely Respondents: Organizations, including LIAs providing evidence-based home visiting services through the Federal Home Visiting Program.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Cost Elements Table | 90 | 1 | 90 | 15.5 | 1,395
Organizational Characteristics Table | 90 | 1 | 90 | 0.5 | 45
Total | ¹ 90 |  | 90 |  | 1,440
¹ The same 90 individuals complete the Cost Elements Table and the Organizational Characteristics Table.

Jason E. Bennett,
Director, Division of the Executive Secretariat.

[FR Doc. 2016-21734 Filed 9-8-16; 8:45 am]

BILLING CODE 4165-15-P